DEPARTMENT OF COMMERCE

National Oceanic and Atmospheric Administration

New Policy and Procedures Documents Announcing a Change in the Calibration Base Line Program

AGENCY: National Geodetic Survey (NGS), National Ocean Service (NOS), National Oceanic and Atmospheric Administration (NOAA), Department of Commerce.

ACTION: Notice of Change in the Calibration Base Line Program; Notice of Public Comment.

SUMMARY: NOAA's National Geodetic Survey (NGS) conducts a Calibration Base Line (CBL) program for electronic distance measuring instrumentation, hereafter referred to as the CBL Program. The CBL Program provides the surveying and engineering community with a locally accessible standard for measuring length and a means for quantifying and correcting for errors associated with this type of instrumentation. Currently, the CBL Program requires use of NGS equipment and direct participation by NGS personnel when establishing and reestablishing CBLs. NGS is considering changes to the CBL Program which will enable our partners to establish and reestablish their local CBLs using their own instrumentation, with NGS providing a quality review function. NGS invites written comments on the CBL Program draft policy (http://www.ngs.noaa.gov/CBLINES/For_review_CBL_Program_Policy.pdf) and draft procedures (http://www.ngs.noaa.gov/CBLINES/For_review_CBL_Program_Procedures.pdf) documents.

FOR FURTHER INFORMATION CONTACT: Requests for additional information or comments should be directed to Mr. Kendall Fancher, Instrumentation and Methodologies Branch Chief, National Geodetic Survey, 15351 Office Drive, Woodford, VA 22580; phone: 540-373-1243, Email: Kendall.Fancher@noaa.gov or NGS.Feedback@noaa.gov.

You may submit your comments or concerns to NGS by Tuesday, January 17, 2017.

SUPPLEMENTARY INFORMATION: Since the CBL Program's inception in 1974, NGS has established more than 400 CBLs throughout the United States in cooperation with various government agencies, universities, professional societies, and others. All data and products associated with this nationwide program are available at the CBL Program Web page: http://www.geodesy.noaa.gov/CBLINES/calibration.html.

Currently the establishment/reestablishment of a local CBL requires on-site supervision by NGS personnel and the use of NGS-owned instrumentation. NGS resource constraints can limit administration of the program and the number of CBLs that can be established and reestablished.

The Director of NOAA's National Geodetic Survey invites interested parties to submit comments to assist NGS as it decides how to maintain the CBL Program into the future. Comments may address any aspect of the CBL Program. Specifically, the Director seeks comments regarding:

1. CBLs located within your local area or state that are important to your organizational activities.

2. Whether proposed changes in the CBL Program policy and procedures impose a hardship on your organization.

3. Whether proposed changes in the CBL Program policy and procedures will be beneficial to your organization.

Dated: November 1, 2016.
Juliana P. Blackwell,
Director, Office of National Geodetic Survey, National Ocean Service, National Oceanic and Atmospheric Administration.

[FR Doc. 2016-27164 Filed 11-9-16; 8:45 am]

BILLING CODE 3510-JE-P